DEPARTMENT OF THE INTERIOR

National Park Service

Concessions Management Advisory Board Meeting

AGENCY: National Park Service, Interior.

ACTION: Notice of Meeting of Concessions Management Advisory Board.

SUMMARY: In accordance with the Federal Advisory Committee Act (Public Law 92-463, 86 Stat. 770, 5 U.S.C. App 1, section 10), notice is hereby given that the Concessions Management Advisory Board will hold its fourth meeting February 21 and 22, 2001, in Washington, DC. The meeting is scheduled to be held at the American Geophysical Union Building located at 2000 Florida Avenue, NW, Washington, DC. The meeting will convene at 8:30 a.m. on both February 21 and February 22 in Room A of the Geophysical building. The meeting will last approximately 8 hours each day and will be concluded in Thursday afternoon.

SUPPLEMENTARY INFORMATION: The Advisory Board was established by Title IV, Section 409 of the National Park Omnibus Management Act of 1998, November 13, 1998, (Public Law 105-391). The purpose of the Board is to advise the Secretary and the National Park Service (NPS) on matters relating to management of concessions in the National Park System.

Major topics for discussion during this meeting include:

• Welcome. Objectives of meeting.

• Discussion of Advisory Board annual report which was submitted to Congress on November 22, 2000.

• Discussion of results of business-based analysis conducted by Pricewaterhouse Coopers which includes a review of the NPS Concessions Program for redefining management and business processes.

• Discussion focusing on development of an online for work on handcraft program.

• Closing remarks (including summary of accomplishments of meeting, date of next proposed meeting, assignment of tasks).

The Board will also discuss its organizational and administrative needs.

The meeting will be open to the public, however, facilities and space of accommodating members of the public are limited, and persons will be accommodated on a first-come first-served basis.

Assistance to Individuals With Disabilities at the Public Meeting

The meeting site is accessible to individuals with disabilities. If you plan to attend and will need an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange it.

Anyone may file with the Board a written statement concerning matters to be discussed. The Board may also permit attendees to address the Board, but may restrict the length of the presentations, as necessary to allow the Board to complete its agenda within the allotted time.

Interested persons may make oral/written presentations to the Board during the business meeting or file written statements. Such requests should be made to the Director, National Park Service, attention: Manager, Concession Program at least 7 days prior to the meeting. Further information concerning the meeting may be obtained from National Park Service, Concession Program Division, 1849 C Street, NW, Rm. 7313, Washington, DC 20240, Telephone 202/565-1210.

Draft minutes of the meeting will be available for public inspection approximately 6 weeks after the meeting, in room 7313, Main Interior Building, 1849 C Street, NW, Washington, DC.

Dated: January 25, 2001.
Denis P. Galvin,
Acting Director, National Park Service.

[FR Doc. 01-4083 Filed 2-16-01; 8:45 am]

BILLING CODE 4310-70-M